SECURITIES AND EXCHANGE COMMISSION

[Release No. 34-45470; File No. SR-CBOE-2002-06]

Self-Regulatory Organizations; Notice of Filing and Immediate Effectiveness of Proposed Rule Change by the Chicago Board Options Exchange, Inc. Relating to Floor Telephone Deposit Fees

February 22, 2002.

Pursuant to section 19(b)(1) of the Securities Exchange Act of 1934 (“Act”) ¹ and Rule 19b-4 thereunder,² notice is hereby given that on February 7, 2002, the Chicago Board Options Exchange, Inc. (“CBOE”) filed with the Securities and Exchange Commission (“Commission”) the proposed rule change as described in Items I, II, and III below, which the CBOE has prepared. The Commission is publishing this notice to solicit comments on the proposed rule change from interested persons.

¹ 15 U.S.C. 78s(b)(1).

² 17 CFR 240.19b-4.

I. Self-Regulatory Organization's Statement of the Terms of Substance of the Proposed Rule Change

The CBOE proposes to make a change to its fee schedule to eliminate its “Exchangefone” and single-line phone deposits, and also to refund deposits that the CBOE is currently retaining. The text of the proposed rule change is available at the CBOE and at the Commission.

II. Self-Regulatory Organization's Statement of the Purpose of, and Statutory Basis for, the Proposed Rule Change

In its filing with the Commission, the CBOE included statements concerning the purpose of and basis for the proposed rule change and discussed any comments it had received on the proposed rule change. The text of these statements may be examined at the places specified in Item IV below. The CBOE has prepared summaries, set forth in Sections A, B, and C below, of the most significant aspects of such statements.

A. Self-Regulatory Organization's Statement of the Purpose of, and Statutory Basis for, the Proposed Rule Change

During the early 1980s, the CBOE began requiring members to pay a deposit of $1,000 per Exchangefone to help fund the installation of a new telephone system on the CBOE floor. Approximately 10 years ago, the CBOE modified the Exchangefone deposit program to cap or limit the deposits to no more than $10,000 per member firm. In addition, the CBOE currently requires a $175 damage deposit for single-line phones on the trading floor. The CBOE is currently holding approximately $365,000 in Exchangefone deposits and approximately $22,000 in single-line phone damage deposits.

The CBOE Board has decided to eliminate the phone deposit programs and refund the deposits that the CBOE is currently holding. This filing implements those changes. The CBOE will refund the deposits to each member firm through a credit that will appear on the next CBOE billing statement.

The CBOE believes that the proposed rule change is consistent with section 6(b) of the Act ³ and furthers the objectives of section 6(b)(4) of the Act ⁴ in that it is designed to provide for the equitable allocation of reasonable dues, fees, and other changes among CBOE members.

³ 15 U.S.C. 78f(b).

⁴ 15 U.S.C. 78f(b)(4).

B. Self-Regulatory Organization's Statement on Burden on Competition

The CBOE does not believe that the proposed rule change will impose any burden on competition that is not necessary or appropriate in furtherance of the purposes of the Act.

C. Self-Regulatory Organization's Statement on Comments on the Proposed Rule Change Received From Members, Participants, or Others

The CBOE neither solicited nor received written comments with respect to the proposed rule change.

III. Date of Effectiveness of the Proposed Rule Change and Timing for Commission Action

Because these foregoing rule change establishes or changes a due, fee, or other charge that the CBOE has imposed, it has become effective pursuant to section 19(b)(3)(A) of the Act⁵ and Rule 19b-4(f)(2) thereunder.⁶ At any time within 60 days after the filing of the proposed rule change, the Commission may summarily abrogate the proposed rule change if it appears to the Commission that such action is necessary or appropriate in the public interest, for the protection of investors, or otherwise in furtherance of the purposes of the Act.

⁵ 15 U.S.C. 78s(b)(3)(A)(ii).

⁶ 17 CFR 240.19b-4(f)(2).

IV. Solicitation of Comments

Interested persons are invited to submit written data, views, and arguments concerning the foregoing, including whether the proposed rule change is consistent with the Act. Persons making written submissions should file six copies thereof with the Secretary, Securities and Exchange Commission, 450 Fifth Street, NW, Washington, DC 20549-0609. Copies of the submission, all subsequent amendments, all written statements with respect to the proposed rule change that are filed with the Commission, and all written communications relating to the proposed rule change between the commission and any person, other than those that may be withheld from the public in accordance with the provisions of 5 U.S.C. 552, will be available for inspection and copying in the Commission's Public Reference Room. Copies of the filing will also be available for inspection and copying at the principal office of the CBOE. All submissions should refer to file number SR-CBOE-2002-06 and should be submitted by March 22, 2002.

For the Commission, by the Division of Market Regulation, pursuant to delegated authority.⁷
⁷ 17 CFR 200.30-3(a)(12).
Margaret H. McFarland,
Deputy Secretary.

[FR Doc. 02-4877 Filed 2-28-02; 8:45 am]

BILLING CODE 8010-01-M